Executive Order 13724 of April 8, 2016

Amending Executive Order 12137

By the authority vested in me as President by the Constitution and the laws of the United States, including section 19 of the Peace Corps Act, as amended (22 U.S.C. 2518) and section 301 of title 3, United States Code, it is hereby ordered as follows:

Section 1. Amendment to Executive Order 12137. Executive Order 12137 of May 16, 1979, as amended, is further amended as follows:

(a) In section 1-1, a new section 1-113 is added to read as follows:

“1-113. The functions of adopting, altering, and using an official seal or emblem of the Peace Corps as set forth in section 19 of the Peace Corps Act (22 U.S.C. 2518) is hereby delegated to the Director of the Peace Corps.”

(b) In section 1-3, section 1-301(e) is deleted.

Sec. 2. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 8, 2016.

[FR Doc. 2016-08713

Filed 4-12-16; 11:15 am]

Billing code 3295-F6-P